DEPARTMENT OF COMMERCE

Foreign-Trade Zones Board

[B-01-2015]

Foreign-Trade Zone (FTZ) 174—Pima County, Arizona, Notification of Proposed Production Activity, Global Solar Energy, Inc., (Thin Film Photovoltaic Solar Products), Tucson, Arizona

Tuscon Regional Economic Opportunities, Inc., grantee of FTZ 174, submitted a notification of proposed production activity to the FTZ Board on behalf of Global Solar Energy, Inc. (Global Solar), located in Tucson, Arizona. The notification conforming to the requirements of the regulations of the FTZ Board (15 CFR 400.22) was received on January 14, 2015.

A separate application for subzone designation at the Global Solar facility is planned and will be processed under Section 400.31 of the FTZ Board's regulations. The facility is used for the production of thin film photovoltaic solar cells, strings, panels, and photovoltaic-coated stainless steel rolls based on copper-indium-gallium-diselenide (CIGS) technology. Pursuant to 15 CFR 400.14(b), FTZ activity would be limited to the specific foreign-status materials/components and specific finished products described in the submitted notification (as described below) and subsequently authorized by the FTZ Board.

Production under FTZ procedures could exempt Global Solar from customs duty payments on the foreign status materials/components used in export production (estimated to be 35% of annual shipments). On its domestic sales, Global Solar would be able to choose the duty rate during customs entry procedures that applies to the thin film photovoltaic solar products (duty free) for the foreign-status materials/components noted below. Customs duties also could possibly be deferred or reduced on foreign-status production equipment.

The materials/components sourced from abroad include: Indium metal shot; gallium metal shot; selenium shot; gallium liquid; copper pellets; diodes; custom junction‐boxes (unpotted); monolithic targets; stainless steel substrates; polymer film rolls; ethylene tetrafluoroethylene film rolls; junction‐box pottant catalyst; junction‐box pottant; and plastic slit input rolls (duty rates range from free to 4.2%). The request indicates that the stainless steel substrates (HTSUS 7220.20.1060 and 7220.20.1080) are subject to an antidumping/countervailing duty (AD/CVD) order. The FTZ Board's regulations (15 CFR 400.14(e)) require that merchandise subject to AD/CVD actions be admitted to the proposed subzone in privileged foreign status (19 CFR 146.41).

Public comment is invited from interested parties. Submissions shall be addressed to the FTZ Board's Executive Secretary at the address below. The closing period for their receipt is March 9, 2015.

A copy of the notification will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz.

FOR FURTHER INFORMATION CONTACT: Diane Finver at Diane.Finver@trade.gov (202) 482-1367.

Dated: January 16, 2015.
Andrew McGilvray,
Executive Secretary.

[FR Doc. 2015-01337 Filed 1-23-15; 8:45 am]

BILLING CODE 3510-DS-P